DEPARTMENT OF EDUCATION

National Assessment Governing Board; Meeting

AGENCY: U.S. Department of Education, National Assessment Governing Board.

ACTION: Notice of open and closed meeting sessions.

SUMMARY: This notice sets forth the schedule and proposed agenda for the upcoming meeting of the National Assessment Governing Board (Board) and also describes the specific functions of the Board. Notice of this meeting is required under Section 10(a)(2) of the Federal Advisory Committee Act. This notice is issued to provide members of the general public with an opportunity to attend and/or provide comments. Individuals who will need special accommodations in order to attend the meeting (e.g. interpreting services, assistive listening devices, materials in alternative format) should notify Munira Mwalimu at 202-357-6938 or at Munira.Mwalimu@ed.gov no later than February 17, 2012. We will attempt to meet requests after this date but cannot guarantee availability of the requested accommodation. The meeting site is accessible to individuals with disabilities.

DATES: February 29, 2012 and March 1-3, 2012.

Times: February 29: Committee Meeting: Assessment Development Committee (ADC): Closed Session: 9 a.m.-3 p.m.

Open Session: 3 p.m.-5 p.m.

March 1

Committee Meetings

Ad Hoc Committee: Open Session 2:30 p.m.-4 p.m.

Executive Committee: Open Session: 4:30 p.m.-5 p.m.; Closed Session: 5 p.m.-6 p.m.

March 2

Full Board: Open Session: 8:15 a.m.-9:30 a.m.; Closed Session: 12:15 p.m.-1:30 p.m.; Open Session: 1:45 p.m.-4:30 p.m.

Committee Meetings

Assessment Development Committee (ADC): Open Session: 9:45 a.m.-11:30 a.m.; Closed Session: 11:30 a.m.-12:15 p.m.

Committee on Standards, Design and Methodology (COSDAM): Open Session: 9:45 a.m. -11:30 a.m. Closed Session: 11:30 a.m.-12:15 p.m.

Reporting and Dissemination Committee (R&D): Open Session: 9:45 a.m.-12:15 p.m.

March 3

Nominations Committee: Closed Session: 7:30 a.m.-8:15 a.m.

Full Board: Closed Session: 8:30 a.m.-9 a.m.; Open Session: 9 a.m.-11:30 a.m.

Location: Hyatt Regency New Orleans, 601 Loyola Avenue, New Orleans, LA 70113.

FOR FURTHER INFORMATION CONTACT: Munira Mwalimu, Operations Officer, National Assessment Governing Board, 800 North Capitol Street NW., Suite 825, Washington, DC, 20002-4233, Telephone: (202) 357-6938.

SUPPLEMENTARY INFORMATION: The National Assessment Governing Board (Board) is established under section 412 of the National Education Statistics Act of 1994, as amended.

The Board is established to formulate policy guidelines for the National Assessment of Educational Progress (NAEP). The Board's responsibilities include the following: selecting subject areas to be assessed, developing assessment frameworks and specifications, developing appropriate student achievement levels for each grade and subject tested, developing standards and procedures for interstate and national comparisons, developing guidelines for reporting and disseminating results, and releasing initial NAEP results to the public.

On February 29, 2012, the Assessment Development Committee (ADC) will meet in closed session from 9 a.m. to 3 p.m. to review secure items for three NAEP assessments—the NAEP 2013 NAEP operational Reading assessment at grades 4 and 8; secure items for the NAEP 2014 Pilot Civics Assessment at grades 4, 8, and 12; and computer-based tasks for the NAEP 2014 Technology and Engineering Literacy Assessment. During the closed session, ADC members will be provided specific test materials for review which are not yet releasable to the general public. Premature disclosure of these secure test items and materials would compromise the integrity and substantially impede implementation of the NAEP assessments and is therefore protected by exemption 9(B) of section 552b(c) of Title 5 of the United States Code. This same committee will meet in an open session from 3 p.m. to 5 p.m. to review background questions for the NAEP 2014 pilot tests in U.S. History, Geography, and Civics at grades 4, 8, and 12

On March 1, 2012, two committee meetings will occur.

From 2:30 p.m. to 4 p.m. the Ad Hoc Committee on NAEP Parent Engagement will meet in open session. The Executive Committee will meet in open session from 4:30 p.m. to 5 p.m., and thereafter in closed session from 5 p.m. to 6 p.m. During the closed session, the Executive Committee will receive a briefing on government cost estimates for the NAEP budget during FY 2013 and beyond for various options for the NAEP schedule of assessments, and the impact of these options on the NAEP contracts. The discussion of assessment schedules and costs will address the congressionally mandated goals and Board policies on NAEP assessments. This portion of the meeting will be conducted in closed session because public discussion of this information would disclose independent government cost estimates and contracting options, adversely impacting the confidentiality of the contracting process. In addition, public disclosure of information discussed would reduce future contract competition and significantly impede implementation of the NAEP contracts and is therefore protected by exemption 9(B) of section 552b(c) of Title 5 of the United States Code.

On March 2, 2012 the full Board will meet in open session from 8:15 a.m. to 10 a.m. The Board will review and approve the meeting agenda and meeting minutes from the December 2011 Board meeting, followed by the Chairman's remarks and a welcome from New Orleans Board member Doris Hicks and Patrick Dobard, Superintendent, Recovery School District of Louisiana. On March 2, from 9 a.m. to 9:10 a.m. the Executive Director of the Governing Board will provide a report to the Board, followed by updates from the Commissioner of the National Center for Education Statistics (NCES) and the Director of the Institute of Education Sciences (IES) from 9:10 a.m. to 9:30 a.m. Following these sessions, the Board will recess for Committee meetings from 9:45 a.m. to 12:15 p.m.

The Reporting and Dissemination Committee will meet in open session from 9:45 a.m. to 12:15 p.m.

The Assessment Development Committee (ADC) will meet in open session from 9:45 a.m. to 11:30 a.m. and thereafter in closed session from 11:30 a.m. to 12:15 p.m. During the closed session, the ADC will receive a briefing on preliminary findings from the NAEP 2011 computer-based mathematics special study. The Board will be provided with study results that cannot be discussed/disclosed in an open meeting prior to public release. Premature disclosure of these findings would significantly compromise the integrity and significantly impede implementation of the NAEP assessments, and is therefore protected by exemption 9(B) of section 552b(c) of Title 5 United States Code.

The Committee on Standards, Design and Methodology will meet in open session from 9:45 a.m. to 11:30 a.m. and in closed session from 11:30 a.m. to 12:15 p.m. During the closed session, the Committee will receive a briefing on secure data collected from the NAEP writing achievement levels-setting pilot study, second field trial, and operational studies. The Board will be provided with specific assessment data and achievement levels results that have not been approved for release by the NCES Commissioner and therefore cannot be disclosed to the public at this time. Premature disclosure of these secure test results would significantly impede implementation of the NAEP assessments and reporting, and is therefore protected by exemption 9(B) of section 552b(c) of Title 5 U.S.C.

On March 2, 2012 from 12:15 p.m. to 1:30 p.m. the full Board will meet in closed session to receive a briefing from NCES and engage in discussions on the Hands-On and Interactive Computer Tasks from the 2009 NAEP Science Assessment. The Board will be provided with embargoed data and results that cannot be discussed in an open meeting prior to their official release by the National Center for Education Statistics on a date to be determined. Premature disclosure of these results would significantly impede implementation of the NAEP assessment program, and is therefore protected by exemption 9(B) of section 552b(c) of Title 5 United States Code.

Following the closed session, the Board will meet in open sessions as follows: From 1:45 p.m. to 2:30 p.m., the Board will receive a briefing on NCES's initiative on the Future of NAEP. From 2:30 p.m. to 3:15 p.m. ., the Board will receive a report of the Expert Panel on NAEP Background Questions. The Board will receive a report from the Ad Hoc Committee on Parent Engagement from 3:30 p.m. to 4 p.m., followed by a discussion session on Board initiatives on Making a Difference from 4 p.m. to 4:30 p.m. The March 2, 2012 session of the Board meeting is scheduled to conclude at 4:30 p.m.

On March 3, 2011, the Nominations Committee will meet in closed session from 7:30 p.m. to 8:15 a.m. to review the proposed slates of finalists for Board terms beginning in October 2012. Thereafter, the full Board will meet in closed session from 8:30 a.m. to 9 a.m. to receive and take action on the recommendations from the Nominations Committee on final candidates for Board vacancies for submission to the Office of Secretary of Education. Both the Committee and full Board discussions pertain solely to internal personnel rules and practices of an agency and will disclose information of a personal nature where disclosure would constitute an unwarranted invasion of personal privacy. As such, the discussions are protected by exemptions 2 and 6 of section 552b(c) of Title 5 of the United States Code.

On March 3, from 9 a.m. to 10:15 a.m. the Board will receive a briefing on the Program for International Student Assessment. From 10:15 a.m. to 11 a.m. the Board will receive briefings and discuss 12th grade Preparedness Reporting. The Board will receive Committee reports and take action on Committee recommendations from 11 a.m. to 11:30 a.m. upon which the March 3, 2011 meeting will conclude.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-866-512-1800; or in the Washington, DC, area at (202) 512-0000.

Note: The official version of this document is the document published in the Federal Register. Free Internet access to the official edition of the Federal Register and the Code of Federal Regulations is available on GPO Access at: www.gpoaccess.gov/nara/index.html.

Dated:February 8, 2011.
Cornelia S. Orr,
Executive Director, National Assessment Governing Board, U.S. Department of Education.

[FR Doc. 2012-3314 Filed 2-13-12; 8:45 am]

BILLING CODE 4000-01-P